DEPARTMENT OF THE INTERIOR

Fish and Wildlife Service

[FWS-R7-SM-2008-N0309] [70101-1261-0000-L6]

Proposed Information Collection; OMB Control Number 1018-0120; Federal Subsistence Regional Advisory Council Membership Application/Nomination and Interview Forms

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on March 31, 2009. We may not conduct or sponsor and a person is not required to respond to a collection of information unless it displays a currently valid OMB control number.

DATES: Your comments must be received by February 9, 2009.

ADDRESSES: Send your comments on the IC to Hope Grey, Information Collection Clearance Officer, Fish and Wildlife Service, MS 222-ARLSQ, 4401 North Fairfax Drive, Arlington, VA 22203 (mail), or hope_grey@fws.gov (e-mail).

FOR FURTHER INFORMATION CONTACT: To request additional information about this ICR, contact Hope Grey by mail or e-mail (see ADDRESSES) or by telephone at (703) 358-2482.

SUPPLEMENTARY INFORMATION:

I. Abstract

Title VIII of the Alaska National Interest Lands Conservation Act (16 U.S.C. 3101) designates the Departments of the Interior and Agriculture as the key agencies responsible for implementing the subsistence priority on Federal public lands for rural Alaska residents. These responsibilities include the establishment of Regional Councils with members from each region who are knowledgeable about the region and subsistence uses of the public lands. One-third of the seats on the Regional Councils become vacant each year. Additional vacancies may occur due to resignations or deaths of sitting members.

Each person desiring to serve on a Regional Council must complete FWS Form 3-2321 (Federal Subsistence Regional Advisory Council Membership Application/Nomination). Persons nominating other individuals for membership must also complete this form. Applicants must provide three references and information on:

(1) Their knowledge of fish and wildlife resources as well as subsistence and other uses of the resources.

(2) Their service on working groups, conservation committees, etc.

(3) How they would represent the people in the region.

(4) Their willingness to travel and attend meetings.

Federal staff will use FWS Form 3-2322 (Regional Advisory Council Candidate Interview Form) to conduct applicant interviews by telephone. Respondents do not see the printed form. Interviewers will ask questions regarding the applicant's willingness to serve on the Regional Council and will ask the applicant to explain information provided on FWS Form 3-2321.

Federal staff will use FWS Form 3-2323 (Regional Council Reference/Key Contact Interview Form) to conduct interviews of references/key contacts for prospective Regional Council members. We conduct all interviews by telephone and the respondents do not see the printed form. Interviewers will ask questions about the applicant's:

(1) Knowledge of fish and wildlife resources as well as subsistence practices and commercial/sport activities.

(2) Leadership ability.

(3) Ability to communicate.

The Federal Subsistence Board uses this information to make recommendations to the Secretary of the Interior for appointment of members to the Regional Councils. We restrict the information collected to the Regional Council member selection process and only to staff that the Federal Subsistence Board deems necessary. The information collections in this program are part of a system of records covered by the Privacy Act (5 U.S.C. 552(a)).

II. Data

OMB Control Number: 1018-0120.

Title: Federal Subsistence Regional Advisory Council Membership Application/Nomination and Interview Forms.

Service Form Number(s): FWS Forms 3-2321, 3-2322, and 3-2323.

Type of Request: Extension of currently approved collection.

Affected Public: Alaska residents.

Respondent's Obligation: Required to obtain or retain a benefit.

Frequency of Collection: On occasion.

Activity | Number of annual respondents | Number of annual responses | Completion time per response | Annual burden hours
FWS Form 3-2321 | 100 | 100 | 2 hours | 200
FWS Form 3-2322 | 100 | 100 | 30 minutes | 50
FWS Form 3-2323 | 400 | 400 | 15 minutes | 100
Totals | 600 | 600 |  | 350

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. We will include and/or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: November 6, 2008
Hope Grey,
Information Collection Clearance Officer, Fish and Wildlife Service.

FR Doc. E8-29138 Filed 12-9-08; 8:45 am

BILLING CODE 4310-55-S